FEDERAL COMMUNICATIONS COMMISSION

47 CFR Parts 15 and 74

[GN Docket No. 14-166, ET Docket No. 14-165, GN Docket No. 12-268: DA 17-709]

Consumer Disclosure and Labeling; Promoting Spectrum Access for Wireless Microphone Operations

AGENCY: Federal Communications Commission.

ACTION: Final rule.

SUMMARY: In this document the Consumer and Governmental Affairs Bureau, Wireless Telecommunications Bureau, and the Office of Engineering and Technology of the Federal Communications Commission adopt specific language for the consumer disclosures which the Commission adopted in 2015 and which concern the operation of wireless microphone (licensed or unlicensed) or video assist devices capable of operating in the 600 MHz service frequency band. With the close of the incentive auction on April 13, 2017, the 600 MHz service band has been reallocated for new wireless services, and wireless microphones and video assist devices must cease operations in this band no later than July 13, 2020 to avoid harmful interference to new wireless services. This disclosure requirement, including the specific Consumer Alert language, applies to persons who manufacture, sell, lease, or offer for sale or lease, wireless microphones or video assist devices authorized pursuant to and informs consumers of the changes that will affect their use of these devices in the newly established 600 MHz service band.

DATES: This rule is effective April 11, 2018.

FOR FURTHER INFORMATION CONTACT: Paul Murray, Office of Engineering and Technology, 202-418-0688, Paul.Murray@fcc.gov. For additional information concerning the Paperwork Reduction Act information collection requirements contained in this document, send an email to PRA@fcc.gov or contact Nicole Ongele at (202) 418-2991.

SUPPLEMENTARY INFORMATION: The Commission will not send a CRA for this document because it only constitutes specific language to the consumer disclosure rules that were adopted by the Commission in 2015 in the Wireless Microphones R&O, 80 FR 71702, November 17, 2015, as revised in 2017 in the Wireless Microphones Order on Reconsideration, 82 FR 41549, September 1, 2017. The Commission submitted the Wireless Microphones R&O, which included the rule provisions adopting the consumer disclosure requirements, to Congress, GAO, etc. This document revises the Commission's rules to provide the specific language consumer disclosure text associated with the previously adopted rules, which the Commission had directed in 2015 that the Consumer and Governmental Affairs Bureau provide once the incentive auction closed. The document implements what the Commission had directed in 2015.

This document contains the specific Consumer Alert text associated with new information collection requirements that are subject to the Paperwork Reduction Act of 1995 (PRA), Public Law 104-13. This language was submitted to the Office of Management and Budget (OMB) in November 2017 for review under section 3507(d) of the PRA, and on January 18, 2018, OMB approved this information collection, published elsewhere in this issue of the Federal Register. In addition, we note that, pursuant to the Small Business Paperwork Relief Act of 2002, Public Law 107-198, see 44 U.S.C. 3506(c)(4), we previously sought specific comment on how the Commission might further reduce the information collection burden for small business concerns with fewer than 25 employees. In this present document, we have assessed the effects of the requirement that entities provide this specified consumer disclosure text with regard to the manufacture, sale, lease, or offer for sale or lease, of wireless microphones that operate in the 600 MHz service band, and find that by allowing such entities—including businesses with fewer than 25 employees—several ways to comply with the consumer disclosure requirement to display this specified text (e.g., providing a label or sticker on a product box, or prominently displaying the text next to the device in a catalogue or electronic sales material), the Commission has effectively minimized the burden of compliance.

This is a summary of the Order adopted by the Consumer and Governmental Affairs Bureau, the Wireless Telecommunications Bureau, and the Office of Engineering and Technology, GN Docket No. 14-166, ET Docket NO. 14-165, GN Docket No. 12-268, DA 17-709, adopted July 24, 2017 and released July 24, 2017. The full text of this document is available for inspection and copying during normal business hours in the FCC Reference Center (Room CY-A257), 445 12th Street SW, Washington, DC 20554. The full text may also be downloaded at: http://transition.fcc.gov/Daily_Releases/Daily_Business/2017/db0724/DA-17-709A1.pdf. People with Disabilities: To request materials in accessible formats for people with disabilities (braille, large print, electronic files, audio format), send an email to fcc504@fcc.gov or call the Consumer & Governmental Affairs Bureau at 202-418-0530 (voice), 202-418-0432 (tty).

Synopsis

1. In this Order, the Consumer and Governmental Affairs Bureau, the Wireless Telecommunications Bureau, and the Office of Engineering and Technology provide the specific language that must be used in the consumer disclosure required by the Commission in 2015 in §§ 15.37(k) and 74.851(l) of the Commission's rules. It is applicable to persons who manufacture, sell, lease, or offer for sale or lease, wireless microphone or video assist devices—either (a) wireless microphones or other low power auxiliary stations (“wireless microphones”) or video assist devices, authorized pursuant to part 74, Subpart H of the Commission's rules, or (b) unlicensed wireless microphones authorized pursuant to § 15.236—to the extent that these devices are capable of operating in the 600 MHz service band (617-652 MHz/663-698 MHz). This specific Consumer Alert text in the consumer disclosure rules informs consumers of the specific frequencies associated with the 600 MHz service band and also informs them that wireless microphone users must cease any wireless microphone operations in the 600 MHz service band no later than July 13, 2020. In addition, in many instances the text informs consumers that they may be required to cease use of these devices earlier if their use has the potential to cause harmful interference to 600 MHz service licensees' wireless operations in the band.

2. On August 5, 2015, the Commission adopted the Wireless Microphones R&O, 80 FR 71702, November 17, 2015, which established various rules applicable to wireless microphones (and other low power auxiliary stations) that operate in the TV bands (which at that time included TV channels 2-51 except channel 37). Anticipating the repurposing of a portion of the TV bands for new 600 MHz wireless services after the close of the broadcast television incentive auction, the Commission took several actions to ensure that the use of wireless microphones does not cause harmful interference to new 600 MHz service licensees' wireless operations. Among other actions, the Commission adopted the consumer disclosure requirement set forth in §§ 15.37(k) and 74.851(l). The rules require that anyone selling, leasing, or offering for sale or lease, wireless microphones that operate in the 600 MHz service band must display the specific text of the consumer disclosure at the point of sale in a clear, conspicuous, and readily legible manner. The Commission required that the consumer disclosure be displayed on the website of the manufacturer (even if the manufacturer does not sell wireless microphones directly to the public) and of dealers, distributors, retailers, and anyone else selling or leasing the devices.

3. In the Wireless Microphones R&O, the Commission delegated authority to the Consumer and Governmental Affairs Bureau, working with the Wireless Telecommunications Bureau and the Office of Engineering and Technology, to prepare the specific language of the required consumer disclosure following the close of the broadcast television incentive auction and issuance of the Closing and Channel Reassignment Public Notice, which established the frequencies that are associated with the 600 MHz service band; the Closing and Channel Reassignment Public Notice was released on April 13, 2017. As directed by the Commission, the Consumer and Governmental Affairs Bureau, the Wireless Telecommunications Bureau, and the Office of Engineering and Technology adopted the text provided in this order as the specific language to be included in the consumer disclosure rules. This text will be included in §§ 15.37(k) and 74.851(l) of the Commission's rules.

4. It is ordered that, pursuant to sections 4(i) and 302 of the Communications Act of 1934, as amended, 47 U.S.C. 154(i) and 302a, and §§ 0.131, 0.141, 0.331, and 0.361 of the Commission's Rules, 47 CFR 0.131, 0.141, 0.331, and 0.361, the Consumer Disclosure text in this ORDER is hereby adopted.

5. It is further ordered that the rules adopted herein, which contain new information collection requirements that require approval by OMB under the PRA, will become effective after the Commission publishes a document in the Federal Register announcing such approval and the relevant effective date.

The information requirements were approved by OMB as of January 18, 2018, as published elsewhere in this issue of the Federal Register, so this document satisfies that notice and publication requirement.

List of Subjects

47 CFR Part 15

Labeling, Reporting and recordkeeping requirements.

47 CFR Part 74

Reporting and recordkeeping requirements.

Federal Communications Commission.
Julius P. Knapp,
Chief, Office of Engineering and Technology.

Final Rules

For the reasons discussed in the preamble, the Federal Communications Commission amends 47 parts 15 and 74 as follows:

PART 15—RADIO FREQUENCY DEVICES

1. The authority citation for part 15 continues to read as follows:

Authority: 47 U.S.C. 154, 302a, 303, 304, 307, 336, 554a, and 549.

2. Section 15.37 is amended by revising paragraph (k)(4) to read as follows:

§ 15.37 Transition provisions for compliance with the rules.

* * * * *

(k) * * *

(4) The consumer disclosure text described in paragraph (k)(1) of this section is set forth in Figure 1 to this paragraph.

* * * * *

PART 74—EXPERIMENTAL RADIO, AUXILIARY, SPECIAL BROADCAST AND OTHER PROGRAM DISTRIBUTIONAL SERVICES

3. The authority citation for part 74 continues to read as follows:

Authority: 47 U.S.C. 154, 302a, 303, 307, 309, 310, 336, and 554.

4. Section 74.851 is amended by revising paragraph (l)(4) to read as follows:

§ 74.851 Certification of equipment, prohibition on manufacture, import, sale, lease, offer for sale or lease, or shipment of devices that operate in the 700 MHz or the 600 MHz Band; labeling for 700 MHz or 600 MHz band equipment destined for non-U.S. markets; disclosures.

* * * * *

(l) * * *

(4) The consumer disclosure text described in paragraph (l)(1) of this section is set forth as Figure 1 to this paragraph.

[FR Doc. 2018-04876 Filed 3-9-18; 8:45 am]

BILLING CODE 6712-01-P